SMALL BUSINESS ADMINISTRATION

Revocation of License of Small Business Investment Company

Pursuant to the authority granted to the United States Small Business Administration by the Wind-Up Order of the United States District Court for the District of Connecticut, dated June 16, 2009, the United States Small Business Administration hereby revokes the license of Fieldpoint Partners SBIC, L.P., a Delaware limited partnership, to function as a small business investment company under the Small Business Investment Company License No. 01710380 issued to Fieldpoint Partners SBIC, L.P. on May 8, 2000 and said license is hereby declared null and void as of June 16, 2009.

Dated: March 4, 2011.
Sean J. Greene,
Associate Administrator for Investment, United States Small Business Administration.

[FR Doc. 2011-6476 Filed 3-18-11; 8:45 am]

BILLING CODE 8025-01-P